DEPARTMENT OF AGRICULTURE

Grain Inspection, Packers and Stockyards Administration

[05-MN-S]

Designation for the State of Minnesota Area

AGENCY: Grain Inspection, Packers and Stockyards Administration, USDA.

ACTION: Notice.

SUMMARY: The Grain Inspection, Packers and Stockyards Administration (GIPSA) announces the designation of Grain Inspection, Inc. (Jamestown), Mid-Iowa Grain Inspection, Inc. (Mid-Iowa), North Dakota Grain Inspection Service, Inc. (North Dakota), Northern Plains Grain Inspection Service, Inc. (Northern Plains), D. R. Schaal Agency, Inc. (Schaal), Sioux City Inspection and Weighing Service Company (Sioux City), all officially designated agencies, and a company proposing to do business as State Grain Inspection, Inc. (State Grain), a subsidiary of National Quality Inspection, Inc., to provide official services under the United States Grain Standards Act, as amended (Act).

EFFECTIVE DATE: January 1, 2006.

ADDRESSES: USDA, GIPSA, Janet M. Hart, Chief, Review Branch, Compliance Division, STOP 3604, Room 1647-S, 1400 Independence Avenue, S.W., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the August 17, 2005, Federal Register (70 FR 48370), GIPSA announced that the Minnesota Department of Agriculture (Minnesota) asked GIPSA to voluntarily cancel their designation to provide domestic grain inspection and weighing services within the entire State of Minnesota, effective November 9, 2005. Subsequently, Minnesota informed GIPSA that they would continue to provide these services until December 31, 2005. Minnesota's designation ends effective December 31, 2005, and GIPSA asked persons or organizations interested in providing official grain inspection and weighing services in Minnesota, except the export port locations, to submit an application for designation by September 16, 2005.

There were nine applicants for the State of Minnesota geographic area. Jamestown, Mid-Iowa, North Dakota, Northern Plains, Schaal, and Sioux City, all officially designated agencies, a company proposing to do business as Minnesota Grain Inspection, Inc. (Minnesota Grain), a subsidiary of Société Générale de Surveillance (SGS) North America, Inc., and State Grain each applied for designation to provide official services in all or part of the entire geographic area named in the August 17, 2005, Federal Register. All of the applicants named above indicated they would be willing to accept more or less geographic area in order to provide needed service to all requestors. Minnesota applied for designation to provide laboratory services only.

GIPSA asked for comments on Jamestown, Mid-Iowa, Minnesota, Minnesota Grain, North Dakota, Northern Plains, Schaal, Sioux City, and State Grain.

Comments were due by October 18, 2005. GIPSA received a total of 51 comments by the closing date. GIPSA received 12 comments from grain firms supporting the designation of Jamestown; 3 comments from grain firms supporting the designation of Mid-Iowa; 8 comments from grain firms supporting the designation of North Dakota; 2 comments from grain firms and 1 comment from a city official supporting the designation of Schaal; 4 comments from grain firms supporting the designation of Sioux City; and 3 comments from grain firms and 11 comments from other businesses and individuals supporting the designation of State Grain. We received 1 comment from a grain firm supporting the designation of both Minnesota Grain and North Dakota. In addition, GIPSA received 6 other general comments concerning the designation process and procedures, 2 from grain trade organizations, 1 from an organization of official agencies, 1 from Minnesota employees, and 2 from grain firms. One of the grain trade organizations did support designation of North Dakota, Sioux City, and State Grain.

GIPSA evaluated all available information regarding the designation criteria in Section 7(f)(l)(A) of the Act and, according to Section 7(f)(l)(B), determined that Jamestown, Mid-Iowa, North Dakota, Northern Plains, Schaal, Sioux City, and State Grain are better able to provide official services in the geographic areas for which they are being selected.

Effective January 1, 2006, and concurrent with their present designations, the following official agencies are designated, pursuant to Section (7)(f)(2) of the Act, for the specified geographic areas cited below.

Jamestown is designated in the following Minnesota Counties: Traverse, Grant, Douglas, Todd, Morrison, Mille Lacs, Kanabec, Pine, Big Stone, Stevens, Pope, Stearns, Benton, Isanti, Chisago, Swift, Kandiyohi, Meeker, Wright, Sherburne, Anoka, Lac Qui Parle, and Chippewa. Jamestown's designation is being amended accordingly to add this geographic area, and to add weighing services to their current designation.

Mid-Iowa is designated in the following Minnesota Counties: Wabasha, Olmstead, Winona, and Houston Counties, as well as Fillmore. Mid-Iowa's designation is being amended accordingly to add this geographic area. Mid-Iowa is already designated to provide weighing services.

North Dakota is designated in the following Minnesota Counties: Koochiching, St. Louis, Lake, Cook, Itasca, Norman, Mahnomen, Hubbard, Cass, Clay, Becker, Wadena, Crow Wing, Aitkin, Carlton, Wilkin, and Otter Tail, excluding those export port locations served by GIPSA. North Dakota's designation is being amended accordingly to add this geographic area, and to add weighing services to their current designation.

Northern Plains is designated in the following Minnesota Counties: Kittson, Roseau, Lake of the Woods, Marshall, Beltrami, Polk, Pennington, Red Lake, and Clearwater. Northern Plains' designation is being amended accordingly to add this geographic area. There is no demonstrated need for weighing services in the area for which Northern Plains is being designated.

Schaal is designated in the following Minnesota Counties: Faribault, Freeborn, and Mower. Schaal's designation is being amended accordingly to add this geographic area. Schaal is already designated to provide weighing services.

Sioux City is designated in the following Minnesota Counties: Yellow Medicine, Renville, Lincoln, Lyon, Redwood, Pipestone, Murray, Cottonwood, Rock, Nobles, Jackson, and Martin. Sioux City?s designation is being amended accordingly to add this geographic area. Sioux City is already designated to provide weighing services.

Effective January 1, 2006, and terminating June 30, 2007, State Grain is designated to provide official grain inspection and weighing services, pursuant to Section (7)(f)(2) of the Act, in the following Counties in the State of Minnesota: Hennepin, Ramsey, Washington, Carver, Scott, Dakota, Brown, Nicollet, Le Sueur, Rice, Goodhue, Watonwan, Blue Earth, Waseca, Steele, Dodge, McLeod, and Sibley.

Interested persons may obtain official services by calling the agencies at the telephone numbers listed below.

Official agency | Headquarters location and telephone | Designation start-end
Jamestown | Jamestown, ND—701-252-1290 | 4/1/2003-3/31/2006
Mid-Iowa | Cedar Rapids, IA—319-363-0239 | 7/1/2005-6/30/2008
| Additional service location: Clayton, IA |
North Dakota | Fargo, ND—701-293-7420 | 4/1/2005-3/31/2008
| Additional service locations: Cahokia, Teutopolis, and Wayne City, IL, Ayr, Enderlin, Hillsboro, and Taylor, ND |
Northern Plains | Grand Forks, ND—701-772-2414 | 4/1/2005-3/31/2008
| Additional service location: Devils Lake, ND |
Schaal | Belmond, IA—641-444-3122 |
Sioux City | Sioux City, IA—712-255-8073 | 4/1/2003-3/31/2006
| Additional service location: Fort Dodge, IA |
State Grain | Mankato, MN—507-387-1514 | 1/1/2006-6/30/2007

Authority: Pub. L. 94-582, 90 Stat. 2867, as amended (7 U.S.C. 71 et seq.).

John R. Sharpe,
Director, Compliance Division, Grain Inspection, Packers and Stockyards Administration.

[FR Doc. 05-23122 Filed 11-22-05; 8:45 am]

BILLING CODE 3410-EN-P